DEPARTMENT OF COMMERCE

National Oceanic and Atmospheric Administration

[RTID 0648-XB629]

Marine Mammals; File No. 25498

AGENCY: National Marine Fisheries Service (NMFS), National Oceanic and Atmospheric Administration (NOAA), Commerce.

ACTION: Notice; receipt of application for permit amendment.

SUMMARY: Notice is hereby given that Titan Productions, Limited, 51-55 Whiteladies Road Bristol, BS8 2LY, United Kingdom (Responsible Party: Lucy Meadows), has applied for an amendment to Commercial and Educational Photography Permit No. 25498.

DATES: Written, telefaxed, or email comments must be received on or before January 18, 2022.

ADDRESSES: The application and related documents are available upon written request via email to NMFS.Pr1Comments@noaa.gov.

Written comments on this application should be submitted via email to NMFS.Pr1Comments@noaa.gov. Please include File No. 25498-01 in the subject line of the email comment.

Those individuals requesting a public hearing should submit a written request via email to NMFS.Pr1Comments@noaa.gov. The request should set forth the specific reasons why a hearing on this application would be appropriate.

FOR FURTHER INFORMATION CONTACT: Amy Hapeman or Carrie Hubard, (301) 427-8401.

SUPPLEMENTARY INFORMATION: The subject amendment to Permit No. 25498 is requested under the authority of the Marine Mammal Protection Act of 1972, as amended (16 U.S.C. 1361 et seq.), the regulations governing the taking and importing of marine mammals (50 CFR part 216).

Permit No. 25498, issued on April 13, 2021 (86 FR 26014), authorizes the permit holder to film the natural behaviors of California sea lions (Zalophus californianus), gray whales (Eschrichtius robustus), and killer whales (Orcinus orca) as part of a wildlife documentary about the marine life along the Pacific Coast. Filming may occur topside from the vessel, underwater, and via an unmanned aircraft system in the waters of California and Alaska. The permit holder is requesting the permit be amended to authorize (1) a new filming area in Southern California waters; (2) an increase in the number of gray whales targeted for filming from 352 to 428 whales annually and California sea lions that may be opportunistically filmed from 70 to 105 sea lions annually for the new filming area; (3) the use of divers when filming gray whales underwater; and (4) the use of a towed camera when filming killer whales underwater. The permit would remain valid through December 31, 2022.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: December 7, 2021.
Julia M. Harrison,
Chief, Permits and Conservation Division, Office of Protected Resources, National Marine Fisheries Service.

[FR Doc. 2021-27393 Filed 12-16-21; 8:45 am]

BILLING CODE 3510-22-P